FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 011516-008.

Title: Voluntary Intermodal Sealift Discussion Agreement.

Parties: American President Lines, Ltd.; CP Ships USA, LLC; Crowley Liner Services, Inc.; Crowley Marine Services, Inc.; Farrell Lines, Inc.; Matson Navigation Company; and Totem Ocean Trailer Express, Inc.

Filing Party: Wayne R. Rohde, Esquire; Cozen O'Connor; 1627 I Street NW., Suite 1100; Washington, DC 20006-4007.

Synopsis: The amendment deletes Maersk Line Limited and Maersk Line, Inc. as parties to the agreement.

Agreement No.: 012061-004.

Title: CMA CGM/Maersk Line Space Charter, Sailing and Cooperative Working Agreement Western Mediterranean-U.S. East Coast.

Parties: CMA CGM, S.A. and A.P. Moller-Maersk A/S.

Filing Party: Wayne R. Rohde, Esquire; Cozen O'Connor; 1627 I Street NW., Suite 1100; Washington, DC 20006-4007.

Synopsis: The amendment would add Morocco to the geographic scope of the agreement.

Agreement No.: 012171.

Title: CMA CGM/SSL Puerto Rico-Leeward Islands Space Charter Agreement.

Parties: CMA CGM S.A. and Sea Star Line LLC.

Filing Party: Wayne R. Rohde, Esquire; Cozen O'Connor; 1627 I Street NW., Suite 1100; Washington, DC 20006-4007.

Synopsis: The agreement authorizes CMA to charter space to Sea Star in the trade between Puerto Rico on the one hand, and the U.S. Virgin Islands and Saint Maarten on the other hand.

Agreement No.: 012172.

Title: Maersk Line/MSC Caribbean Space Charter Agreement.

Parties: A.P. Moller-Maersk A/S trading under the name Maersk Line and Mediterranean Shipping Company S.A.

Filing Party: Wayne R. Rohde, Esquire; Cozen O'Connor; 1627 I Street NW., Suite 1100; Washington, DC 20006-4007.

Synopsis: The agreement would authorize Maersk Line to charter space to MSC in the trade between ports in Puerto Rico and ports in the Dominican Republic and Panama.

By Order of the Federal Maritime Commission.
Dated: May 24, 2012.
Karen V. Gregory,
Secretary.

[FR Doc. 2012-13136 Filed 5-30-12; 8:45 am]

BILLING CODE P